DEPARTMENT OF COMMERCE

National Oceanic and Atmospheric Administration

[RTID 0648-XC392]

Pacific Fishery Management Council; Public Meeting

AGENCY: National Marine Fisheries Service (NMFS), National Oceanic and Atmospheric Administration (NOAA), Commerce.

ACTION: Notice of public meeting.

SUMMARY: The Pacific Fishery Management Council's (Pacific Council) Salmon Technical Team (STT) and Scientific and Statistical Committee's (SSC) Salmon Subcommittee will hold an online meeting.

DATES: The online meeting will be held Wednesday, October 12 and Thursday, October 13, 2022. The daily meeting time will be 8:30 a.m. until 3 p.m., and all times are Pacific Daylight Time. If necessary, meetings may continue past the noticed end time on each day in order to complete the business at hand.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Robin Ehlke, Staff Officer, Pacific Council; telephone: (503) 820-2410.

SUPPLEMENTARY INFORMATION: The purpose of the meeting is to conduct a salmon methodology review to discuss and review proposed changes to analytical methods used in salmon management. At its September 2022 meeting, the Pacific Council adopted the following priority items for the 2022 Salmon Methodology Review.

1. Technical review of the updates associated with `Round 7.1.1' of the Fishery Regulation Assessment Model (FRAM) base period as they relate to modeled abundances of Chinook salmon stocks used in determining the southern resident killer whale (SRKW) Chinook salmon abundance threshold.

2. Technical review of the updates to Chinook salmon ocean distribution models that derive from two publications (Shelton et al. 2019, 2021) and are used to apportion the modeled abundance of Chinook salmon stocks among ocean regions.

3. Discussion of whether the Sacramento Index forecast should be expressed as a mean or median.

4. Review of the basis behind the Sacramento River Fall Chinook conservation objective.

5. FRAM technical detail documentation.

If time allows additional topics may be discussed, including but not limited to future Pacific Council agenda items and salmon related topics of interest to the STT and SSC Salmon Subcommittee.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 20, 2022.
Rey Israel Marquez,
Acting Deputy Director, Office of Sustainable Fisheries, National Marine Fisheries Service.

[FR Doc. 2022-20659 Filed 9-22-22; 8:45 am]

BILLING CODE 3510-22-P